DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permits.

SUMMARY: In accordance with the procedures governing the application for, and the processing of, special permits from the Department of Transportations Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g., to provide for additional hazardous materials, packaging design changes, additional mode of transportation, etc.) are described in footnotes to the application number. Application numbers with the suffix “M” denote a modification request. These applications have been separated from the new application for special permits to facilitate processing.

DATES: Comments must be received on or before June 1, 2009.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://fdms.gov.

This notice of receipt of applications for modification of special permit is published in accordance with Part 107 of the Federal hazardous materials transportation law (49 U.S.C. 5117(b); 49 CFR 1.53(b)).

Issued in Washington, DC, on May 7, 2009.
Delmer F. Billings,
Director, Office of Hazardous Materials Special Permits and Approvals.

Modification Special Permits
Application docket No. | Applicant | Regulation(s) affected | Nature of special permit thereof
14453-M | FIBA Technologies, Inc. Millbury, MA | 49 CFR 180.209 | To renew and modify the special permit to authorize an additional Division 2.1 hazardous material; to increase maximum acceptance flaw size used on UE requalification and other miscellaneous revisions.
14503-M | Gay Lea Foods Co-operative Limited Guelph | 49 CFR 173.306(b)(1) | To modify the special permit to authorize the addition of DOT 2Q metal container.
14576-M | Structural Composites Industries (SCI) Pomona, CA | 49 CFR 173.302a and 173.304a | To modify the special permit to authorize the removal of the specific requirement for minimum water volume of 250 liters.

[FR Doc. E9-11310 Filed 5-14-09; 8:45 am]

BILLING CODE 4909-60-M